DEPARTMENT OF TRANSPORTATION

Federal Aviation Administration

14 CFR Part 25

[Docket No. FAA-2015-0455; Notice No. 25-15-04-SC]

Special Conditions: Bombardier Aerospace, Models BD-500-1A10 and BD-500-1A11; Electronic Flight Control System: Lateral-Directional and Longitudinal Stability and Low-Energy Awareness

AGENCY: Federal Aviation Administration (FAA), DOT.

ACTION: Notice of proposed special conditions.

SUMMARY: This action proposes special conditions for the Bombardier Aerospace Models BD-500-1A10 and BD-500-1A11 series airplanes. These airplanes will have a novel or unusual design feature when compared to the state of technology envisioned in the airworthiness standards for transport category airplanes. This design feature is a fly-by-wire electronic flight control system that provides an electronic interface between the pilot's flight controls and the flight control surfaces for both normal and failure states. The system generates the actual surface commands that provide for stability augmentation and control about all three airplane axes. The applicable airworthiness regulations do not contain adequate or appropriate safety standards for this design feature. These proposed special conditions contain the additional safety standards that the Administrator considers necessary to establish a level of safety equivalent to that established by the existing airworthiness standards.

DATES: Send your comments on or before April 20, 2015.

ADDRESSES: Send comments identified by docket number FAA-2015-0455 using any of the following methods:

• Federal eRegulations Portal: Go to http://www.regulations.gov/ and follow the online instructions for sending your comments electronically.

• Mail: Send comments to Docket Operations, M-30, U.S. Department of Transportation (DOT), 1200 New Jersey Avenue SE., Room W12-140, West Building Ground Floor, Washington, DC, 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov/, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov/.

Docket: Background documents or comments received may be read at http://www.regulations.gov/ at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Joe Jacobsen, FAA, Airplane and Flight Crew Interface, ANM-111, Transport Airplane Directorate, Aircraft Certification Service, 1601 Lind Avenue SW., Renton, Washington, 98057-3356; telephone 425-227-2011; facsimile 425-227-1320.

SUPPLEMENTARY INFORMATION:

Comments Invited

We invite interested people to take part in this rulemaking by sending written comments, data, or views. The most helpful comments reference a specific portion of the special conditions, explain the reason for any recommended change, and include supporting data.

We will consider all comments we receive by the closing date for comments. We may change these special conditions based on the comments we receive.

Background

On December 10, 2009, Bombardier Aerospace applied for a type certificate for their new Models BD-500-1A10 and BD-500-1A11 series airplanes (hereafter collectively referred to as “CSeries”). The CSeries airplanes are swept-wing monoplanes with an aluminum alloy fuselage, sized for 5-abreast seating. Passenger capacity is designated as 110 for the Model BD-500-1A10 and 125 for the Model BD-500-1A11. Maximum takeoff weight is 131,000 pounds for the Model BD-500-1A10 and 144,000 pounds for the Model BD-500-1A11.

The CSeries flight control system design incorporates normal load factor limiting on a full time basis that will prevent the pilot from inadvertently or intentionally exceeding the positive or negative airplane limit load factor. The FAA considers this feature to be novel and unusual in that the current regulations do not provide standards for maneuverability and controllability evaluations for such systems. Special conditions are needed to ensure adequate maneuverability and controllability when using this design feature.

Type Certification Basis

Under the provisions of Title 14, Code of Federal Regulations (14 CFR) 21.17, Bombardier Aerospace must show that the CSeries airplanes meet the applicable provisions of 14 CFR part 25 as amended by Amendments 25-1 through 25-129.

If the Administrator finds that the applicable airworthiness regulations (i.e., 14 CFR part 25) do not contain adequate or appropriate safety standards for the CSeries airplanes because of a novel or unusual design feature, special conditions are prescribed under the provisions of § 21.16.

Special conditions are initially applicable to the model for which they are issued. Should the type certificate for that model be amended later to include any other model that incorporates the same novel or unusual design feature, these special conditions would also apply to the other model under § 21.101.

In addition to the applicable airworthiness regulations and special conditions, the CSeries airplanes must comply with the fuel vent and exhaust emission requirements of 14 CFR part 34 and the noise certification requirements of 14 CFR part 36, and the FAA must issue a finding of regulatory adequacy under § 611 of Public Law 92-574, the “Noise Control Act of 1972.”

The FAA issues special conditions, as defined in 14 CFR 11.19, in accordance with § 11.38, and they become part of the type-certification basis under § 21.17(a)(2).

Novel or Unusual Design Features

The CSeries airplanes will incorporate the following novel or unusual design feature: Fly-by-wire electronic flight control system that provides an electronic interface between the pilot's flight controls and the flight control surfaces for both normal and failure states. The system generates the actual surface commands that provide for stability augmentation and control about all three airplane axes.

Discussion

In the absence of positive lateral stability, the curve of lateral control surface deflections against sideslip angle should be in a conventional sense and reasonably in harmony with rudder deflection during steady heading sideslip maneuvers.

Since conventional relationships between stick forces and control surface displacements do not apply to the “load factor command” flight control system on the CSeries airplanes, longitudinal stability characteristics should be evaluated by assessing the airplane handling qualities during simulator and flight test maneuvers appropriate to the operation of the airplane. This may be accomplished by using the Handling Qualities Rating Method presented in appendix 5 of Advisory Circular (AC) 25-7C, Flight Test Guide for Certification of Transport Category Airplanes, dated October 16, 2012, or an acceptable alternative method proposed by Bombardier Aerospace. Important considerations are as follows:

(a) Adequate speed control without creating excessive pilot workload;

(b) Acceptable high and low speed protection; and

(c) Provision of adequate cues to the pilot of significant speed excursions beyond VMO/MMO and low speed awareness flight conditions.

The airplane should provide adequate awareness cues to the pilot of a low energy (i.e., a low speed, low thrust, or low height) state to ensure that the airplane retains sufficient energy to recover when flight control laws provide neutral longitudinal stability significantly below the normal operating speeds. This may be accomplished as follows:

(a) Adequate low speed/low thrust cues at low altitude may be provided by a strong positive static stability force gradient (1 pound per 6 knots applied through the sidestick); or

(b) The low energy awareness may be provided by an appropriate warning with the following characteristics:

i. It should be unique, unambiguous, and unmistakable.

ii. It should be active at appropriate altitudes and in appropriate configurations (i.e., at low altitude, in the approach and landing configurations).

iii. It should be sufficiently timely to allow recovery to a stabilized flight condition inside the normal flight envelope while maintaining the desired flight path and without entering the flight controls angle-of-attack protection mode.

iv. It should not be triggered during normal operation, including operation in moderate turbulence, for recommended maneuvers at recommended speeds.

v. It should not be cancelable by the pilot other than by achieving a higher energy state.

vi. There should be an adequate hierarchy among the warnings so that the pilot is not confused and led to take inappropriate recovery action if multiple warnings occur.

Global energy awareness and non-nuisance of low energy cues should be evaluated by simulator and flight tests in the whole take-off and landing altitude range for which certification is requested. This would include all relevant combinations of weight, center-of-gravity position, configuration, airbrakes position, and available thrust, including reduced and de-rated take-off thrust operations and engine failure cases. A sufficient number of tests should be conducted, allowing the level of energy awareness and the effects of energy management errors to be assessed.

These proposed special conditions contain the additional safety standards that the Administrator considers necessary to establish a level of safety equivalent to that established by the existing airworthiness standards.

Applicability

As discussed above, these special conditions are applicable to the Bombardier BD-500-1A10 and BD-500-1A11. Should Bombardier Aerospace apply at a later date for a change to the type certificate to include another model incorporating the same novel or unusual design feature, these special conditions would apply to that model as well.

Conclusion

This action affects only certain novel or unusual design features on two model series of airplanes. It is not a rule of general applicability.

List of Subjects in 14 CFR Part 25

Aircraft, Aviation safety, Reporting and recordkeeping requirements.

The authority citation for these special conditions is as follows:

Authority: 49 U.S.C. 106(g), 40113, 44701, 44702, 44704.

The Proposed Special Conditions

Accordingly, the Federal Aviation Administration proposes the following special conditions as part of the type certification basis for Bombardier Aerospace BD-500-1A10 and BD-500-1A11 series airplanes.

1. Electronic Flight Control System: Lateral-Directional and Longitudinal Stability and Low-Energy Awareness. In lieu of the requirements of §§ 25.171, 25.173, 25.175, and 25.177:

(a) The airplane must be shown to have suitable static lateral, directional, and longitudinal stability in any condition normally encountered in service, including the effects of atmospheric disturbance. The showing of suitable static lateral, directional, and longitudinal stability must be based on the airplane handling qualities, including pilot workload and pilot compensation, for specific test procedures during the flight test evaluations.

(b) The airplane must provide adequate awareness to the pilot of a low energy (low speed/low thrust/low height) state when fitted with flight control laws presenting neutral longitudinal stability significantly below the normal operating speeds. “Adequate awareness” means warning information must be provided to alert the crew of unsafe operating conditions and to enable them to take appropriate corrective action.

(c) The static directional stability (as shown by the tendency to recover from a skid with the rudder free) must be positive for any landing gear and flap position and symmetrical power condition, at speeds from 1.13 VSR1, up to VFE, VLE, or VFC/MFC (as appropriate).

(d) The static lateral stability (as shown by the tendency to raise the low wing in a sideslip with the aileron controls free), for any landing-gear and wing-flap position and symmetric-power condition, may not be negative at any airspeed (except that speeds higher than VFE need not be considered for wing-flaps-extended configurations nor speeds higher than VLE for landing-gear-extended configurations) in the following airspeed ranges:

i. From 1.13 VSR1 to VMO/MMO.

ii. From VMO/MMO to VFC/MFC, unless the divergence is—

(1) Gradual;

(2) Easily recognizable by the pilot; and

(3) Easily controllable by the pilot.

(e) In straight, steady sideslips over the range of sideslip angles appropriate to the operation of the airplane, but not less than those obtained with one half of the available rudder control movement (but not exceeding a rudder control force of 180 pounds), rudder control movements and forces must be substantially proportional to the angle of sideslip in a stable sense; and the factor of proportionality must lie between limits found necessary for safe operation. This requirement must be met for the configurations and speeds specified in paragraph (c) of this section.

(f) For sideslip angles greater than those prescribed by paragraph (e) of this section, up to the angle at which full rudder control is used or a rudder control force of 180 pounds is obtained, the rudder control forces may not reverse, and increased rudder deflection must be needed for increased angles of sideslip. Compliance with this requirement must be shown using straight, steady sideslips, unless full lateral control input is achieved before reaching either full rudder control input or a rudder control force of 180 pounds; a straight, steady sideslip need not be maintained after achieving full lateral control input. This requirement must be met at all approved landing gear and wing-flap positions for the range of operating speeds and power conditions appropriate to each landing gear and wing-flap position with all engines operating.

Issued in Renton, Washington, on February 24, 2015.
Jeffrey E. Duven,
Manager, Transport Airplane Directorate, Aircraft Certification Service.

[FR Doc. 2015-05048 Filed 3-4-15; 8:45 am]

BILLING CODE 4910-13-P